DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Special Census Program.

Form Number(s): SC-1, SC-1SUPP, SC-2, SC-920, SC-116, SC-351, SC-921(HU), SC-921(SP).

Agency Approval Number: 0607-0368.

Type of Request: Reinstatement, with change, of an expired collection.

Burden: 114,421 hours.

Number of Respondents: 851,525.

Avg Hours Per Response: 8 minutes.

Needs and Uses: Governmental units requiring current population statistics between decennial censuses request that the Census Bureau conduct special censuses. Many states distribute funds based on current population statistics. In addition, special census data are used by the local jurisdictions to plan new schools, transportation systems, housing programs, and water treatment facilities.

The Special Census Program will operate as a generic OMB clearance, including a library of forms and the operational procedures that will be used for the many special censuses we anticipate conducting this decade. The Census Bureau will establish a reimbursable agreement with a variety of potential special census customers that are unknown at this time. Prior to conducting any special census, the Census Bureau will submit documentation to OMB providing the details of the Special Census under consideration. We will also submit for OMB review and approval, under cover of change worksheet, any special-purpose questions requested by customers to be added to special census questionnaires.

Local jurisdictions use special census data to apply for available funds from both the state and Federal government. Many states distribute these funds based on current population statistics. This fact, along with local population shifts or annexations of territory, prompts local officials to request special censuses. In addition, special census data are used by the local jurisdictions to plan new schools, transportation systems, housing programs, water treatment facilities, etc. Some areas feel that additional data are required for proper planning and others must have the additional data to qualify for some sources of funding. For these reasons, local officials request special purpose questions. The Census Bureau also uses special census data as part of its local population estimates calculation and to update the Bureau's Master Address File (MAF) and Topographically Integrated Geographic Encoding and Referencing (TIGER) System.

Affected Public: Individuals or households.

Frequency: On occasion.

Respondent's Obligation: Voluntary.

Legal Authority: Title 13 U.S.C., Section 196.

OMB Desk Officer: Susan Schechter, (202) 395-5103.

Copies of the above information collection proposal can be obtained by calling or writing Madeleine Clayton, Departmental Paperwork Clearance Officer, (202) 482-3129, Department of Commerce, room 6608, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: March 19, 2002.
Madeleine Clayton,
Departmental Paperwork Clearance Officer, Office of the Chief Information Officer.

[FR Doc. 02-6961 Filed 3-21-02; 8:45 am]

BILLING CODE 3510-07-M